NUCLEAR REGULATORY COMMISSION

[NRC-2016-0174]

Information Collections: DOE/NRC Form 740M, “Concise Note;” DOE/NRC Form 741, “Nuclear Material Transaction Report;” DOE/NRC Form 742, “Material Balance Report;” and DOE/NRC Form 742C, “Physical Inventory Listing”

AGENCY: Nuclear Regulatory Commission.

ACTION: Renewal of existing information collection; request for comment.

SUMMARY: The U.S. Nuclear Regulatory Commission (NRC) invites public comment on the renewal of Office of Management and Budget (OMB) approval for four existing collections of information. The information collections are entitled, DOE/NRC Form 740M, “Concise Note;” DOE/NRC Form 741, “Nuclear Material Transaction Report;” DOE/NRC Form 742, “Material Balance Report;” and DOE/NRC Form 742C, “Physical Inventory Listing.”

DATES: Submit comments by December 27, 2016. Comments received after this date will be considered if it is practical to do so, but the Commission is able to ensure consideration only for comments received on or before this date.

ADDRESSES: You may submit comments by any of the following methods:

• Federal Rulemaking Web site: Go to http://www.regulations.gov and search for Docket ID NRC-2016-0174. Address questions about NRC dockets to Carol Gallagher; telephone: 301-415-3463; email: Carol.Gallagher@nrc.gov. For technical questions, contact the individual listed in the FOR FURTHER INFORMATION CONTACT section of this document.

• Mail comments to: David Cullison, Office of the Chief Information Officer, Mail Stop: T-5 F53, U.S. Nuclear Regulatory Commission, Washington, DC 20555-0001.

For additional direction on obtaining information and submitting comments, see “Obtaining Information and Submitting Comments” in the SUPPLEMENTARY INFORMATION section of this document.

FOR FURTHER INFORMATION CONTACT: David Cullison, Office of the Chief Information Officer, U.S. Nuclear Regulatory Commission, Washington, DC 20555-0001; telephone: 301-415-2084; email: INFOCOLLECTS.Resource@NRC.GOV.

SUPPLEMENTARY INFORMATION:

I. Obtaining Information and Submitting Comments

A. Obtaining Information

Please refer to Docket ID NRC-2016-0174 when contacting the NRC about the availability of information for this action. You may obtain publicly-available information related to this action by any of the following methods:

• Federal rulemaking Web site: Go to http://www.regulations.gov and search for Docket ID NRC-2016-0174. A copy of the collection of information and related instructions may be obtained without charge by accessing Docket ID NRC-2016-0174 on this Web site.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. A copy of the collection of information and related instructions may be obtained without charge by accessing ADAMS Accession No. ML16252A183. Guidance documents are available for the Forms, as follows: NUREG/BR-0006, Revision 7 (ADAMS Accession No. ML111740924), and NUREG/BR-0007 (ADAMS Accession No. ML090120288). The supporting statements for each DOE/NRC Form and the Forms themselves are available, as follows: DOE/NRC Form 740M, “Concise Note” (ADAMS Accession No(s) ML16252A184 and ML16252A189); DOE/NRC Form 741, “Nuclear Material Transaction Report” (ADAMS Accession No(s) ML16252A185 and ML16252A191); DOE/NRC Form 742, “Material Balance Report” (ADAMS Accession No(s) ML16252A186 and ML16252A192); and DOE/NRC Form 742C, “Physical Inventory Listing” (ADAMS Accession No(s) ML16252A187 and ML16252A193).

• NRC's PDR: You may examine and purchase copies of public documents at the NRC's PDR, Room O1-F21, One White Flint North, 11555 Rockville Pike, Rockville, Maryland 20852.

• NRC's Clearance Officer: A copy of the collection of information and related instructions may be obtained without charge by contacting NRC's Clearance Officer, David Cullison, Office of the Chief Information Officer, U.S. Nuclear Regulatory Commission, Washington, DC 20555-0001; telephone: 301-415-2084; email: INFOCOLLECTS.Resource@NRC.GOV.

B. Submitting Comments

The NRC cautions you not to include identifying or contact information in comment submissions that you do not want to be publicly disclosed in your comment submission. All comment submissions are posted at http://www.regulations.gov and entered into ADAMS. Comment submissions are not routinely edited to remove identifying or contact information.

If you are requesting or aggregating comments from other persons for submission to the OMB, then you should inform those persons not to include identifying or contact information that they do not want to be publicly disclosed in their comment submission. Your request should state that comment submissions are not routinely edited to remove such information before making the comment submissions available to the public or entering the comment into ADAMS.

II. Background

In accordance with the Paperwork Reduction Act of 1995 (44 U.S.C. Chapter 35), the NRC is requesting public comment on its intention to request the OMB's approval for the information collection summarized below.

1. The title of the information collections: DOE/NRC Form 740M, “Concise Note;” DOE/NRC Form 741, “Nuclear Material Transaction Report;” DOE/NRC Form 742, “Material Balance Report;” and DOE/NRC Form 742C, “Physical Inventory Listing.”

2. OMB approval numbers:

DOE/NRC Form 740M: 3150-0057

DOE/NRC Form 741: 3150-0003

DOE/NRC Form 742: 3150-0004

DOE/NRC Form 742C: 3150-0058

3. Type of submission: Revision.

4. The form number, if applicable: DOE/NRC Forms 740M, 741, 742, and 742C.

5. How often the collection is required or requested: DOE/NRC Form 741, “Nuclear Material Transaction Report,” will be collected whenever source or special nuclear material is shipped or received into the Material Balance Area; DOE/NRC Form 742, “Material Balance Report,” will be collected on an annual basis; DOE/NRC Form 742C, “Physical Inventory Listing,” will be collected on an annual basis; DOE/NRC Form 740M, “Concise Note” forms are used as needed to provide additional information such as qualifying statements or exceptions to data on any of the other data forms required under the U.S.-IAEA Safeguards Agreements (including DOE/NRC Forms 741, 742, and 742C).

6. Who will be required or asked to respond: Persons licensed to possess specified quantities of special nuclear material or source material and entities subject to the U.S.-IAEA Caribbean Territories Safeguards Agreement (INFCIRC/366) are required to respond as follows:

Any licensee who ships, receives, or otherwise undergoes an inventory change of special nuclear material or source material is required to submit a DOE/NRC Form 741 to document the change. Additional information regarding these transactions shall be submitted through Form 740M, with Safeguards Information identified and handled in accordance with title 10 of the Code of Federal Regulations (10 CFR) section 73.21, “Requirements for the Protection of Safeguards Information.”

Any licensee who had possessed in the previous reporting period, at any one time and location, special nuclear material in a quantity totaling one gram or more shall complete DOE/NRC Form 742. In addition, each licensee, Federal or State, who is authorized to possess, at any one time or location, one kilogram of foreign obligated source material, is required to file with the NRC an annual statement of source material inventory which is foreign obligated.

Any licensee, who had possessed in the previous reporting period, at any one time and location, special nuclear material in a quantity totaling one gram or more shall complete DOE/NRC Form 742C.

7. The estimated number of annual responses:

DOE/NRC Form 740M: 175

DOE/NRC Form 741: 10,000

DOE/NRC Form 742: 385

DOE/NRC Form 742C: 385

8. The estimated number of annual respondents:

DOE/NRC Form 740M: 40

DOE/NRC Form 741: 350

DOE/NRC Form 742: 385

DOE/NRC Form 742C: 385

9. The estimated number of hours needed annually to comply with the information collection requirement or request:

DOE/NRC Form 740M: 131

DOE/NRC Form 741: 12,500

DOE/NRC Form 742: 1,310

DOE/NRC Form 742C: 1,490

10. Abstract: Persons licensed to possess specified quantities of special nuclear material or source material currently report inventory and transaction of material to the Nuclear Materials Management and Safeguards System via the DOE/NRC Forms: DOE/NRC Form 740M, “Concise Note;” DOE/NRC Form 741, “Nuclear Material Transaction Report;” DOE/NRC Form 742, “Material Balance Report;” DOE/NRC Form 742C, “Physical Inventory Listing.” This collection is being renewed to include approximately 25 entities subject to the U.S.-IAEA Caribbean Territories Safeguards Agreement (INFCIRC/366). Part 75 of 10 CFR requires licensees to provide reports of source and special nuclear material inventory and flow for entities under the U.S.-IAEA Caribbean Territories Safeguards Agreement (INFCIRC/366), permit inspections by IAEA inspectors, give immediate notice to the NRC in specified situations involving the possibility of loss of nuclear material, and give notice for imports and exports of specified amounts of nuclear material. These licensees will also follow written material accounting and control procedures. Reporting of transfer and material balance records to the IAEA will be done through Nuclear Materials Management and Safeguards System, collected under OMB clearance numbers 3150-0003, 3150-0004, 3150-0057, and 3150-0058. The NRC needs this information to implement its international obligations under the U.S.-IAEA Caribbean Territories Safeguards Agreement (INFCIRC/366).

III. Specific Requests for Comments

The NRC is seeking comments that address the following questions:

1. Is the proposed collection of information necessary for the NRC to properly perform its functions? Does the information have practical utility?

2. Is the estimate of the burden of the information collection accurate?

3. Is there a way to enhance the quality, utility, and clarity of the information to be collected?

4. How can the burden of the information collection on respondents be minimized, including the use of automated collection techniques or other forms of information technology?

Dated at Rockville, Maryland, this 19th day of October 2016.
For the Nuclear Regulatory Commission.
David Cullison,
NRC Clearance Officer, Office of the Chief Information Officer.

[FR Doc. 2016-26067 Filed 10-27-16; 8:45 am]

BILLING CODE 7590-01-P